DEPARTMENT OF THE INTERIOR

Bureau of Land Management

[WY-030-1610-DS]

Notice of Availability of the Draft Environmental Impact Statement for the Rawlins Resource Management Plan Revision

AGENCY: Bureau of Land Management, Interior.

ACTION: Notice of availability of a Draft Environmental Impact Statement (DEIS) for the Rawlins Resource Management Plan (RMP), Wyoming.

SUMMARY: In accordance with Section 202 of the National Environmental Policy Act of 1969 (NEPA), the Bureau of Land Management (BLM) announces the availability of the DEIS for the Rawlins RMP Revision.

The DEIS describes and analyzes alternatives for the planning and management of public lands and resources administered by the BLM Rawlins Field Office.

DATES: The Rawlins RMP and DEIS will be available for review for 90 calendar days from the date the Environmental Protection Agency (EPA) publishes its NOA in the Federal Register. The BLM can best utilize comments and resource information submissions within this review period.

Formal hearings and open houses will be scheduled to provide the public additional opportunities to submit comments on the Rawlins RMP revision and DEIS. All meetings or hearings and any other public involvement activities will be announced at least 15 days in advance through public notices, media news releases, Rawlins RMP Web site announcements, or mailings.

ADDRESSES: A copy of the DEIS has been sent to affected Federal, State, and local Government agencies and to interested parties. The document will be available electronically on the following Web site: http://www.wy.blm.gov/rfo/rfoplan.htm. Copies of the DEIS will be available for public inspection at the following locations:

• Bureau of Land Management, Wyoming State Office, 5353 Yellowstone Road, Cheyenne, Wyoming 82003

• Bureau of Land Management, Rawlins Field Office, 1300 N. Third Street, Rawlins, Wyoming 82301

FOR FURTHER INFORMATION CONTACT: Mr. John Spehar, Project Manager, BLM Rawlins Field Office, 1300 N. Third Street, Rawlins, WY 82301. Requests for information may be sent electronically to: Rawlins_wymail@blm.gov with “Attention: Rawlins RMP Information Request” in the subject line. Mr. Spehar may also be reached at (307) 328-4264.

SUPPLEMENTARY INFORMATION: The administrative area is located in south central and southeastern Wyoming and includes approximately 11.2 million acres of land in Albany, Carbon, Laramie, and Sweetwater Counties. Within that area, the BLM administers approximately 3.3 million acres of public land surface and underlying Federal mineral estate. The BLM administers an additional 0.1 million acres of surface estate over State and private minerals, and administers an additional 1.2 million acres of Federal mineral estate under private or State-owned surface.

In 1990, the BLM approved the Great Divide RMP. This RMP established management direction for the surface and mineral estates and associated resources administered by the BLM Rawlins Field Office, Wyoming. In July 2001, an evaluation of the Great Divide RMP, predecessor to the Rawlins RMP, concluded that the RMP was deficient in certain areas as a result of changed conditions and demands on the area's resources.

In 2002, under the provisions found at 43 CFR 1610, the BLM published a Notice of Intent to prepare an Environmental Impact Statement (EIS) that would be used to review and analyze current conditions considering new data, new or revised policies, and circumstances affecting the entire or major portions of the geographic area addressed in the Great Divide RMP. To reflect changes in administrative units, the BLM also established that the revised plan would henceforth be known as the Rawlins RMP.

The DEIS describes the physical, biological, cultural, historic, and socioeconomic resources in and around the planning area. The focus for impact analysis is based on resource issues and concerns identified during scoping and public involvement activities and opportunities. Potential impacts of concern regarding possible management direction and planning decisions (not in priority order) are development of energy resources and mineral-related issues; special management designations; resource accessibility; wildland-urban interface; special status species management; water quality; vegetation management; and recreation, cultural and paleontological resources management.

The DEIS documents the direct, indirect, and cumulative environmental impacts of four alternatives for management of BLM-administered public lands within the Rawlins Field Office. When completed, the revised RMP will fulfill the obligations set forth by NEPA, the Federal Land Policy and Management Act, and associated Federal regulations. Four alternatives are analyzed in detail:

1. Alternative 1. Continues Existing Management Direction (“No Action” Alternative);

2. Alternative 2. Encourages development and use opportunities while minimizing adverse impacts to cultural and natural resources (Development Alternative);

3. Alternative 3. Fosters conservation of natural and cultural resources while providing for compatible development and use (Protection Alternative);

4. Alternative 4. Provides development opportunities while protecting sensitive resources (Agency Preferred Alternative).

The Rawlins RMP DEIS considers, and is in conformance with, BLM's National Fire Plan. The potential for energy development in the Rawlins RMP planning area is high, both east and west of Rawlins, Wyoming. Based on the high potential within the area administered by the Rawlins Field Office, the DEIS considers oil and gas and wind energy development in support of the National Energy Plan.

In the time since the BLM published its Notice of Intent to prepare an RMP and EIS in the Federal Register, BLM has conducted open houses, taken surveys, and issued mailings to solicit comments and input. The Rawlins Field Office has been coordinating with various County Governments, Conservation Districts, and Wyoming State Government throughout the development of the DEIS. Tribal Governments with interests in the Rawlins area were also contacted. Commencing with the date that BLM's NOI was published in the Federal Register, through April 7, 2003, the BLM solicited for, and received, in excess of, 26,000 comments from interested parties. In addition, public meetings were held to provide the public with an opportunity to acquire information about the RMP revision process, as well as to provide the public with an opportunity to submit comments. Public meetings were held in: Rock Springs, Wyoming, March 3, 2003; Rawlins, Wyoming, March 4, 2003; Baggs, Wyoming, March 5, 2003; and Laramie, Wyoming, March 6, 2003. BLM has considered all comments presented throughout the process in the preparation of the Draft RMP EIS. Background information and maps used in developing the Draft RMP EIS are available for public viewing in the Rawlins Field Office.

How To Submit Comments

The BLM welcomes comments on the Rawlins RMP DEIS. Comments may be submitted as follows:

1. The Rawlins RMP Revision Web site at www.rawlinsrmp.com is designed to allow commenters to submit comments electronically by resource subject directly onto a comment form posted on the Web site;

2. Comments may be uploaded in an electronic file directly to the above Web site;

3. Comments may be electronically mailed to comments@rawlinsrmp.com.

4. Comments may be submitted during the public open houses and hearings that will be held at a later date; and

5. Written comments may be mailed directly, or delivered, to the BLM at:Rawlins RMP/EIS, Bureau of Land Management Rawlins Field Office, 1300 N. Third Street, P.O. Box 2407, Rawlins, WY 82301-2407.

BLM will only accept comments on the Rawlins RMP DEIS if they are submitted in one of the five methods as described above. To facilitate analysis of comment and information submitted, BLM strongly encourages the public to submit comments in an electronic format through either the Web site or electronic mail. To be given consideration by BLM all DEIS comment submittals must include the commenter's name and street address.

Our practice is to make comments, including the names and street addresses of each respondent, available for public review at the BLM office listed above during business hours (7:45 a.m. to 4:30 p.m.), Monday through Friday, except for Federal holidays. Your comments may be published as part of the EIS process. Individual respondents may request confidentiality. If you wish to withhold your name or street address or both from public review or from disclosure under the Freedom of Information Act, you must state this prominently at the beginning of your written comments. Such requests will be honored to the extent allowed by law. We will not consider anonymous comments. All submissions from organizations or businesses will be made available for public inspection in their entirety.

Dated: January 4, 2004.
Editorial Note: This document was received at the Office of the Federal Register December 13, 2004.
Robert A. Bennett,
State Director.

[FR Doc. 04-27532 Filed 12-16-04; 8:45 am]

BILLING CODE 4310-22-P